DEPARTMENT OF STATE

[Public Notice 8344]

U.S. National Commission for UNESCO Notice of Teleconference Meeting

The U.S. National Commission for UNESCO will hold a conference call on Friday, June 21, 2013, from 3:00 p.m. until 4:00 p.m. Eastern Time. The open session will have a series of subject-specific reports, during which the Commission will accept brief oral comments or questions from the public or media. The purpose of the teleconference meeting is to consider the recommendations of the Commission's National Committee for the Intergovernmental Oceanographic Commission (IOC). The call will also be an opportunity to provide an update on recent and upcoming Commission and UNESCO activities. The public comment period will be limited to approximately 10 minutes in total, with two minutes allowed per speaker.

For more information or to arrange to participate in the conference call, individuals must make arrangements with the Executive Secretariat of the National Commission by June 17.

The National Commission, Washington, DC 20037 may be contacted via email DCUNESCO@state.gov or Telephone (202) 663-0026; Fax 202-663-0035. The Web site can be accessed at: http://www.state.gov/p/io/unesco/.

Dated: May 28, 2013.
Allison Wright,
Executive Director, U.S. National Commission for UNESCO, Department of State.

[FR Doc. 2013-13077 Filed 5-31-13; 8:45 am]

BILLING CODE 4710-19-P